SECURITIES AND EXCHANGE COMMISSION

Issuer Delisting; Notice of Application To Withdraw From Listing and Registration on the Chicago Stock Exchange, Inc. (DST Systems, Inc., Common Stock, $.01 Par Value, and Preferred Stock Purchase Rights) File No. 1-14036

January 16, 2003.

DST Systems, Inc., a Delaware corporation (“Issuer”), has filed an application with the Securities and Exchange Commission (“Commission”), pursuant to Section 12(d) of the Securities Exchange Act of 1934 (“Act”) ¹ and Rule 12d2-2(d) thereunder,² to withdraw its Common Stock, $.01 par value, and Preferred Stock Purchase Rights (“Securities”), from listing and registration on the Chicago Stock Exchange, Inc. (“CHX” or “Exchange”).

¹ 15 U.S.C. 78l(d).

² 17 CFR 240.12d2-2(d).

The Issuer states in its application that it has met the requirements of the rules of the Exchange (CHX Article XXVIII, Rule 4) by complying with Exchange's rules governing an issuer's voluntary withdrawal of a security from listing and registration and by complying with all laws in effect in the State of Delaware.

On May 14, 2002, the Board of Directors of the Issuer unanimously approved a resolution to withdraw the Issuer's Securities from listing on the CHX. In making the decision to withdraw the Securities from listing and registration on the CHX, the Issuer states that the expense and administrative time associated with remaining list on the CHX outweighs the limited advantages, and the Issuer no longer sees the value of the additional market place. The Issuer states that the Securities have traded on the New York Stock Exchange, Inc. since November 1995.

The Issuer's application relates solely to the withdrawal of the Securities from listing and registration on the CHX and from registration under Section 12(b) of the Act ³ and shall not affect its obligation to be registered under Section 12(g) of the Act. ⁴

³ 15 U.S.C. 78l(b).

⁴ 15 U.S.C. 78l(g).

Any interested person may, on or before February 7, 2003, submit by letter to the Secretary of the Securities and Exchange Commission, 450 Fifth Street, NW., Washington, DC 20549-0609, facts bearing upon whether the application has been made in accordance with the rules of the CHX and what terms, if any, should be imposed by the Commission for the protection of investors. The Commission, based on the information submitted to it, will issue an order granting the application after the date mentioned above, unless the Commission determines to order a hearing on the matter.

For the Commission, by the Division of Market Regulation, pursuant to delegated authority.⁵

⁵ 17 CFR 200.30-3(a)(1).

Jonathan G. Katz,
Secretary.

[FR Doc. 03-1451 Filed 1-22-03; 8:45 am]

BILLING CODE 8010-01-M